FEDERAL MINE SAFETY AND HEALTH REVIEW COMMISSION

Sunshine Act Meeting

September 18, 2007.

TIME AND DATE: 10:30 a.m., Thursday, September 27, 2007.

PLACE: The Richard V. Backley Hearing Room, 9th Floor, 601 New Jersey Avenue, NW., Washington, DC.

STATUS: Open.

MATTERS TO BE CONSIDERED: The commission will consider and act upon the following in open session: Secretary of Labor v. Austin Powder Company, Docket Nos. CENT 2006-128-M and CENT 2006-159-M. (Issues include whether the Administrative Law Judge erred in finding that the company committed a violation when it stored detonators in a magazine that did not comply with the construction criteria in 30 CFR 56.6132.).

Any person attending this meeting who requires special accessibility features and/or auxiliary aids, such as sign language interpreters, must inform the Commission in advance of those needs. Subject to 29 CFR 2706.150(a)(3) and 2706.160(d).

CONTACT PERSON FOR MORE INFO: Jean Ellen, (202) 434-9950/(202) 708-9300 for TDD Relay/1-800-877-8339 for toll free.

Jean H. Ellen,
Chief Docket Clerk.

[FR Doc. 07-4761 Filed 9-24-07; 1:00 pm]

BILLING CODE 6735-01-M